DEPARTMENT OF THE INTERIOR

Fish and Wildlife Service

Mexican Wolf Blue Range Reintroduction Project 5-Year Review

AGENCY: Fish and Wildlife Service, Interior.

ACTION: Re-opening of the notice of document availability.

SUMMARY: We, the U.S. Fish and Wildlife Service (Service) announce the re-opening of the availability of the Mexican Wolf Blue Range Reintroduction Project (Reintroduction Project) 5-Year Review for an additional 14 days. The original notice of availability and comment period for the 5-Year Review was open from March 16, 2006 to April 17, 2006. We are re-opening the comment period to allow additional time for public review and comment on the document. The 5-Year Review, authorized by section 10(j) of the Endangered Species Act of 1973 (Act), as amended, was conducted by the Mexican Wolf Blue Range Adaptive Management Oversight Committee (AMOC). The 5-Year Review and public comment will inform our decision to continue, continue with modification, or terminate the Reintroduction Project. This 5-Year Review should not be confused with status reviews (also called 5-year reviews) conducted under section 4(c)(2)(A) of the Act. This 5-year program evaluation of the Reintroduction Project is conducted pursuant to a 1998 section 10(j) final rule.

DATES: The comment period for this 5-Year Review closes May 30, 2006. Comments on the 5-Year Review must be received by the closing date to assure consideration.

ADDRESSES: Mexican Wolf Recovery Coordinator, New Mexico Ecological Services Field Office, 2105 Osuna NE, Albuquerque, NM 87113. To review documents or submit comments, see “Public Comments Solicited” under SUPPLEMENTARY INFORMATION.

FOR FURTHER INFORMATION CONTACT: Mexican Wolf Recovery Coordinator, telephone: (800) 299-0196 ¶4748; facsimile: (505) 346-2542; or e-mail: FW2ESWolf5YReview@fws.gov.

SUPPLEMENTARY INFORMATION:

Background

Mexican wolf (Canis lupus baileyi) reintroduction in Arizona and New Mexico is conducted under the authority of section 10(j) of the Act (16 U.S.C. 1531 et seq.). On January 12, 1998, the Service published a final rule (63 FR 1752) that established a nonessential experimental population of the gray wolf in Arizona and New Mexico and defined the Mexican Wolf Experimental Population Area (MWEPA) and the Blue Range Wolf Recovery Area (BRWRA) within the states of Arizona and New Mexico. Initial releases of captive-reared Mexican wolves into the BRWRA occurred in 1998, and additional initial releases and translocations have occurred annually.

The final rule states that the Service will prepare periodic progress reports, annual reports, and full evaluations after three and five years that will recommend continuation, modification, or termination of the reintroduction effort. In 2004-2005, the AMOC, which consists of the Arizona Game and Fish Department, New Mexico Department of Game and Fish, USDA-Forest Service, USDA-APHIS Wildlife Services, White Mountain Apache Tribe, and the Service, conducted the 5-Year Review of the Reintroduction Project. The AMOC transmitted a final 5-Year Review to the Service on December 31, 2005. The 5-Year Review provides synthesized information on all aspects of the Reintroduction Project, including the status of the wolf population, the social and economic impacts of wolf reintroduction on surrounding communities, and program management. This information is organized in four primary components: Administrative, Technical, Socio-economic, and Recommendations.

On March 16, 2006, we announced a notice of availability of the 5-Year Review. At the close of the 30-day public comment period, we received a request to re-open the comment period for an additional two weeks to allow additional time for public review. Based on this request, we are re-opening the public comment period for 14 days.

Public Comments Solicited

Persons wishing to review the 5-Year Review may request a printed copy by contacting the Mexican Wolf Recovery Coordinator (see ADDRESSES) or by downloading it from the Internet at: http://www.fws.gov/ifw2es/mexicanwolf/MWNR_FYRD.shtml.

Comments and materials concerning this 5-Year Review may be mailed to the Mexican Wolf Recovery Coordinator (see ADDRESSES), or faxed or e-mailed (see FOR FURTHER INFORMATION CONTACT).

Our practice is to make comments, including names and home addresses of respondents, available for public review during regular business hours. Respondents may request that we withhold a respondent's identity, as allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Comments and materials received will be available for public inspection, by appointment, during normal business hours at our New Mexico Ecological Services Field Office (see ADDRESSES).

To ensure that we have conducted a transparent process that is based on the best available scientific and commercial information throughout the development of the 5-Year Review and to inform our subsequent decision to continue, continue with modification, or terminate the Reintroduction Project, we are soliciting written comments on the 5-Year Review from the public, concerned governmental agencies, Tribes, the scientific community, industry, environmental entities, and any other interested parties. The Administrative, Technical, and Socioeconomic components of the 5-Year Review have undergone extensive public review under the oversight of the AMOC. The Service is specifically interested in comments from the public pertaining to the Recommendations and whether they follow logically from the background information and analyses provided in the Administrative, Technical, and Socio-economic components. However, comments on all components of the 5-Year Review received by the date specified above will be considered prior to the Service's decision to continue, continue with modifications, or terminate the Reintroduction Project. This 5-Year Review should not be confused with status reviews (also called 5-year reviews) conducted under section 4(c)(2)(A) of the Act. This is a 5-year program evaluation of the Reintroduction Project as required by the section 10(j) final rule (63 FR 1752).

Authority: The authority for this action is section 10(j) of the Endangered Species Act, 16 U.S.C. 1539(j).

Dated: April 27, 2006.
Benjamin N. Tuggle,
Regional Director, Southwest Region, Fish and Wildlife Service.

[FR Doc. E6-7317 Filed 5-12-06; 8:45 am]

BILLING CODE 4310-55-P